DEPARTMENT OF COMMERCE

International Trade Administration

[A-357-818]

Agreement Suspending the Antidumping Duty Investigation on Lemon Juice From Argentina: Rescission of 2022-2023 and 2023-2024 Administrative Reviews

AGENCY: Enforcement and Compliance, International Trade Administration, Department of Commerce.

SUMMARY: The U.S. Department of Commerce (Commerce) is rescinding the administrative reviews of the Agreement Suspending the Antidumping Duty Investigation on Lemon Juice from Argentina (2016 Agreement) for the periods of review (PORs) from October 1, 2022, through September 30, 2023, and from October 1, 2023, through September 30, 2024. On January 17, 2025, Commerce finalized an amendment to the 2016 Agreement, rendering the administrative reviews of the pre-existing 2016 Amendment moot.

DATES: Applicable February 12, 2025.

FOR FURTHER INFORMATION CONTACT: Sally C. Gannon or Jill Buckles, Bilateral Agreements Unit, Enforcement and Compliance, International Trade Administration, U.S. Department of Commerce, 1401 Constitution Avenue NW, Washington, DC 20230; telephone: (202) 482-0162 or (202) 482-6230, respectively.

SUPPLEMENTARY INFORMATION:

Background

On September 10, 2007, Commerce entered into an agreement to suspend the antidumping duty investigation on lemon juice from Argentina.¹ On October 20, 2016, Commerce and producers/exporters accounting for substantially all imports of lemon juice from Argentina signed the 2016 Agreement.² On May 22, 2024, Commerce formally opened consultations with the signatory producers/exporters with respect to possible revisions to the 2016 Agreement.³

¹ See Suspension of Antidumping Duty Investigation: Lemon Juice From Argentina, 72 FR 53991 (September 21, 2007).

² See Lemon Juice from Argentina: Continuation of Suspension of Antidumping Investigation, 81 FR 74395 (October 26, 2016).

³ See Commerce's Letter, “Consultations on Potential Amendment to the 2016 Agreement Suspending the Antidumping Duty Investigation on Lemon Juice from Argentina,” dated May 22, 2024.

On October 3, 2023 and October 1, 2024, respectively, Commerce notified interested parties of the opportunity to request administrative reviews of the 2016 Agreement.⁴ On October 30, 2023 and October 14, 2024, respectively, Ventura Coastal, LLC (petitioner) submitted requests for administrative reviews of the 2016 Agreement.⁵ On December 6, 2023, and November 14, 2024, respectively, Commerce published in the Federal Register notices initiating the administrative reviews of the 2016 Agreement for the PORs October 1, 2022, through September 30, 2023, and October 1, 2023, through September 30, 2024.⁶ On November 13, 2024, Commerce published in the Federal Register preliminary results of the 2022-2023 administrative review in accordance with section 751(a)(3)(A) of the Tariff Act of 1930, as amended (the Act).⁷

⁴ See Antidumping or Countervailing Duty Order, Finding, or Suspended Investigation; Opportunity To Request Administrative Review, 88 FR 68098 (October 3, 2023); see also Antidumping or Countervailing Duty Order, Finding, or Suspended Investigation; Opportunity To Request Administrative Review, 89 FR 79894 (October 1, 2024).

⁵ See Petitioner's Letter, “Request for Administrative Review,” dated October 30, 2023; see also Petitioner's Letter, “Request for Administrative Review,” dated October 14, 2024.

⁶ See Initiation of Antidumping and Countervailing Duty Administrative Reviews, 88 FR 84784 (December 6, 2023); see also Initiation of Antidumping and Countervailing Duty Administrative Reviews, 89 FR 89955 (November 14, 2024).

⁷ See Agreement Suspending the Antidumping Duty Investigation on Lemon Juice From Argentina; Preliminary Results of 2022-2023 Administrative Review, 89 FR 89599 (November 13, 2024).

On January 17, 2025, Commerce and a representative of the signatory producers/exporters accounting for substantially all imports of lemon juice from Argentina signed a final amendment to the 2016 Agreement.⁸ On February 5, 2025, Commerce issued its final statutory memorandum which provides detailed explanations regarding how the amended agreement meets its statutory requirements and responds to comments from interested parties on the amendment.⁹

⁸ See Lemon Juice From Argentina: Amendment to the Agreement Suspending the Antidumping Duty Investigation, 90 FR 8116 (January 24, 2025).

⁹ See Memorandum, “Amendment to the Agreement Suspending the Antidumping Duty Investigation on Lemon Juice from Argentina: Assessment of Statutory Requirements,” dated February 5, 2025.

Rescission of the Administrative Reviews

Commerce has conducted these reviews in accordance with section 751(a)(1)(C) of the Act, which specifies that Commerce shall “review the current status of, and compliance with, any agreement by reason of which an investigation was suspended.” Because Commerce has finalized a new amendment revising the terms and conditions of the 2016 Agreement, the administrative reviews of the pre-existing 2016 Agreement for the PORs from October 1, 2022, through September 30, 2023, and from October 1, 2023, through September 30, 2024, are now moot. The reviews pertain to a version of the 2016 Agreement that no longer exists. Accordingly, we are hereby rescinding these reviews.

Notification to Interested Parties

This notice is issued and published in accordance with sections 751(a)(1) and 777(i)(1) of the Act, and 19 CFR 351.213(d)(4).

Dated: February 7, 2025.
Scot Fullerton,
Acting Deputy Assistant Secretary for Antidumping and Countervailing Duty Operations.

[FR Doc. 2025-02541 Filed 2-11-25; 8:45 am]

BILLING CODE 3510-DS-P